DEPARTMENT OF ENERGY

Federal Energy Regulatory Commission

[Project No. 7887-017]

Marlborough Hydro Associates; Ashuelot River Hydro, Inc.; Notice of Application for Transfer of License, and Soliciting Comments and Motions To Intervene

On January 9, 2013, Marlborough Hydro Associates (transferor) and Ashuelot River Hydro, Inc. (transferee) filed an application for transfer of license for the Minnewawa Hydroelectric Project, FERC No. 7887, located on Minnewawa Brook in Cheshire County, New Hampshire.

Applicants seek Commission approval to transfer the license for the Minnewawa Hydroelectric Project from the transferor to the transferee.

Applicants' Contact: For transferor: Mr. John Webster, General Partner, Marlborough Hydro Associates, P.O. Box 178, South Berwick, ME 03908 and Ms. Elizabeth W. Whittle, Nixon, Peabody, LLP, 401 Ninth Street NW., Suite 900, Washington, DC 20004, telephone (202) 585-8338. For transferee: Mr. Robert King, President, Ashuelot River Hydro, Inc., 42 Hurricane Road, Keene, NH 03431, telephone (603) 352-3444.

FERC Contact: Patricia W. Gillis (202) 502-8735, patricia.gillis@ferc.gov.

Deadline for filing comments and motions to intervene: 15 days from the issuance date of this notice, by the Commission. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket number (P-7887) in the docket number field to access the document. For assistance, call toll-free 1-866-208-3372.

Dated: February 14, 2013.
Kimberly D. Bose,
Secretary.

[FR Doc. 2013-03957 Filed 2-20-13; 8:45 am]

BILLING CODE 6717-01-P